ENVIRONMENTAL PROTECTION AGENCY

40 CFR Part 52

[EPA-R09-OAR-2014-0323; FRL-9913-12-Region 9]

Revisions to the California State Implementation Plan, Placer County Air Pollution Control District and South Coast Air Quality Management District

AGENCY: Environmental Protection Agency (EPA).

ACTION: Direct final rule.

SUMMARY: The Environmental Protection Agency (EPA) is taking direct final action to approve revisions to the Placer County Air Pollution Control District (PCAPCD) and South Coast Air Quality Management District (SCAQMD) portions of the California State Implementation Plan (SIP). Under the Clean Air Act (CAA or the Act), we are rescinding local rules that concern volatile organic compound (VOC) emissions from the manufacture of medium density fiberboard, melamine and phenol resins used in plasticizing paper and oxides of nitrogen (NOX) emissions from stationary internal combustion engines.

DATES: This rule is effective on September 12, 2014 without further notice, unless EPA receives adverse comments by August 13, 2014. If we receive such comments, we will publish a timely withdrawal in the Federal Register to notify the public that this direct final rule will not take effect.

ADDRESSES: Submit comments, identified by docket number EPA-R09-OAR-2014-0323, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Arnold Lazarus, EPA Region IX, (415) 972-3024, lazarus.arnold@epa.gov.

SUPPLEMENTARY INFORMATION: Throughout this document, “we,” “us,” and “our” refer to EPA.

Table of Contents

I. The State's Submittal

A. What rules did the State submit?

B. What is the purpose of the submitted rule revisions?

II. EPA's Evaluation and Action

A. How is EPA evaluating the rules?

B. Do the rules meet the evaluation criteria?

C. EPA Recommendations To Further Improve the Rules

D. Public Comment and Final Action

III. Statutory and Executive Order Reviews

I. The State's Submittal

A. What rules did the State submit?

Table 1 lists the rule rescissions we are approving with the dates that they were rescinded by the local air agencies and submitted by the California Air Resources Board.

Table 1—Submitted Rules
Local agency | Rule No. | Rule title | Adopted | Rescinded | Submitted
PCAPCD | 229 | Fiberboard Manufacturing | 6/28/1994 | 4/12/2012 | 2/12/2014
PCAPCD | 230 | Plastic Products and Materials—Paper Treating Operations | 6/28/1994 | 4/12/2012 | 2/12/2014
SCAQMD | 1110 | Emissions From Stationary Internal Combustion Engines (Demonstration) | 11/6/1981 | 11/14/1997 | 5/18/1998

On April 8, 2014 EPA determined that the submittal to rescind PCAPCD rules 229 and 230 met the completeness criteria in 40 CFR Part 51 Appendix V, which must be met before formal EPA review.

On November 18, 1998, the submittal to rescind SCAQMD Rule 1110 was deemed by operation of law to meet the completeness criteria in 40 CFR Part 51 Appendix V.

B. What is the purpose of the submitted rule rescissions?

VOCs help produce ground-level ozone and smog, which harm human health and the environment. Section 110(a) of the CAA requires States to submit regulations that control VOC emissions. PCAPCD Rules 229 and 230 were originally adopted because two sources, SierraPine addressed by Rule 229, and Formica addressed by Rule 230, were emitting significant VOCs. Both sources are no longer operating in PCAPCD, so there is no longer need for these rules in PCAPCD's local rulebook or the SIP. EPA's technical support document (TSD) has more information about these rule rescissions.

Nitrogen oxides (NOX) help produce ground-level ozone, smog and particulate matter, which harm human health and the environment. Section 110(a) of the CAA requires States to submit regulations that control NOX emissions. SCAQMD Rule 1110, Emissions From Stationary Internal Combustion Engines (Demonstration) was adopted to collect emission data which SCAQMD later used to develop SCAQMD Rule 1110.1—Emissions From Stationary Internal Combustion Engines, which established emission controls on certain engines. Rule 1110 required owners and/or operators of more than 5,000 total installed rated brake horsepower of existing engines to participate in a program to demonstrate the effectiveness of methods for the reduction of NOX emissions. Rule 1110 was repealed by SCAQMD because it was a demonstration program that has been completed. Therefore, the rule's provisions are no longer applicable. EPA's TSD has more information about this rule.

II. EPA's Evaluation and Action

A. How is EPA evaluating the rule rescissions?

These rules describe requirements intended to help control VOC emissions from fiberboard manufacturing, and plastic products and materials—paper treating operations in PCAPCD, and NOX emission data from stationary internal combustion engines used in demonstrating NOX emissions in SCAQMD. These rule rescissions must not relax existing requirements consistent with CAA sections 110(l) and 193. EPA policy that we used to evaluate these rule revisions includes “State Implementation Plans; General Preamble for the Implementation of Title I of the Clean Air Act Amendments of 1990,” 57 FR 13498 (April 16, 1992); 57 FR 18070 (April 28, 1992).

B. Do the rules meet the evaluation criteria?

The Districts have requested rule rescissions because they no longer have any sources subject to these rules, they do not expect any new sources in the future, and any new sources would be subject to restrictive New Source Review permitting requirements. Therefore, we believe these rule rescissions are consistent with relevant policy and guidance.

C. EPA Recommendations To Further Improve the Rules

Because these are rescissions, there are no recommendations to improve the rules.

D. Public Comment and Final Action

As authorized in section 110(k)(3) of the Act, EPA is fully approving the submitted rule rescissions because we believe they fulfill all relevant requirements. We do not think anyone will object to this approval, so we are finalizing it without proposing it in advance. However, in the Proposed Rules section of this Federal Register, we are simultaneously proposing approval of the same submitted rules. If we receive adverse comments by August 13, 2014, we will publish a timely withdrawal in the Federal Register to notify the public that the direct final approval will not take effect and we will address the comments in a subsequent final action based on the proposal. If we do not receive timely adverse comments, the direct final approval will be effective without further notice on September 12, 2014. This will incorporate these rule rescissions into the federally enforceable SIP.

Please note that if EPA receives adverse comments on an amendment, paragraph, or section of this rule and if that provision may be severed from the remainder of the rule, EPA may adopt as final those provisions of the rule that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 12, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Carbon monoxide, Incorporation by reference, Intergovernmental relations, Nitrogen dioxide, Ozone, Reporting and recordkeeping requirements, Volatile organic compounds.

Dated: May 30, 2014.
Jared Blumenfeld,
Regional Administrator, Region IX.

Part 52, Chapter I, Title 40 of the Code of Federal Regulations is amended as follows:

PART 52—APPROVAL AND PROMULGATION OF IMPLEMENTATION PLANS.

1. The authority citation for Part 52 continues to read as follows:

Authority: 42 U.S.C. 7401 et seq.

Subpart F—California

2. Section 52.220, is amended by adding paragraphs (c)(121)(i)(E) and(198)(i)(B)(3) and (4) to read as follows:

§ 52.220 Identification of plan.

* * * * *

(c) * * *

(121) * * *

(i) * * *

(E) Previously approved on May 3, 1984 in paragraph (c)(121)(i)(C) of this section and now deleted without replacement Rule 1110.

* * * * *

(198) * * *

(i) * * *

(B) * * *

(3) Previously approved on December 14, 1994 in paragraph (c)(198)(i)(B)(1) of this section and now deleted without replacement Rule 230.

(4) Previously approved on June 8, 2001 in paragraph (c)(198)(i)(B)(2) of this section and now deleted without replacement Rule 229.

* * * * *

[FR Doc. 2014-16293 Filed 7-11-14; 8:45 am]

BILLING CODE 6560-50-P